ENVIRONMENTAL PROTECTION AGENCY

[ER-FRL-9021-9]

Environmental Impact Statements; Notice of Availability

Responsible Agency: Office of Federal Activities, General Information (202) 564-7146 or http://www2.epa.gov/nepa.

Weekly receipt of Environmental Impact Statements (EISs)

Filed 07/06/2015 Through 07/10/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150189, Draft, NOAA, MA, Amendment 18 to the Northeast Multispecies Fishery Management Plan, Comment Period Ends: 08/31/2015, Contact: John K. Bullard 978-281-9135.

EIS No. 20150190, Draft, USFS, CA, Trestle Forest Health Project, Comment Period Ends: 08/31/2015, Contact: Jennifer Ebert 530-647-5382.

EIS No. 20150191, Draft, USACE, TX, Surface Coal and Lignite Mining in Texas, Comment Period Ends: 09/08/2015, Contact: Darvin Messer 817-886-1744.

EIS No. 20150192, Final Supplement, USN, GU, Guam and Commonwealth of the Northern Mariana Islands Military Relocation (2012 Roadmap Adjustments), Review Period Ends: 08/17/2015, Contact: Joseph A. Campbell CAPT USN 703-602-3924.

EIS No. 20150193, Draft, BLM, UT, Beaver Dam Wash National Conservation Area Red Cliffs National Conservation Area Draft Amendment to the St. George Field Office Resource Management Plan, Comment Period Ends: 10/15/2015, Contact: Keith Rigtrup 435-865-3063.

EIS No. 20150194, Draft, WAPA, CA, San Luis Transmission Project, Comment Period Ends: 08/31/2015, Contact: Donald Lash 916-353-4048.

EIS No. 20150195, Final Supplement, TVA, TN, Integrated Resource Plan, Review Period Ends: 08/17/2015, Contact: Charles P. Nicholson, 865-632-3582.

EIS No. 20150196, Draft Supplement, BR, CA, Bay Delta Conservation Plan/California Water Fix, Comment Period Ends: 08/31/2015, Contact: Michelle Banonis 916-930-5676.

EIS No. 20150197, Final, USFS, CA, Lake Tahoe Basin Management Unit Land Management Plan, Review Period Ends: 08/17/2015, Contact: Denise Downie 530-543-2683.

Amended Notices

EIS No. 20150180, Final, USFS, AZ, Flagstaff Watershed Protection Project, Review Period Ends: 08/10/2015, Contact: Erin Phelps 928-527-8240 Revision to FR Notice Published 07/02/2015; Correction to Review Period Ends 08/10/2015.

EIS No. 20150182, Final, VA, CA, San Francisco Veterans Affairs Medical Center Long Range Development Plan, Review Period Ends: 08/10/2015, Contact: Robin Flanagan 415-750-2049 Revision to FR Notice Published 07/10/2015; Correction to Review Period Ends: 08/10/2015.

Dated: July 14, 2015.
Dawn Roberts,
Management Analyst, NEPA Compliance Division, Office of Federal Activities.

[FR Doc. 2015-17602 Filed 7-16-15; 8:45 am]

BILLING CODE 6560-50-P